DEPARTMENT OF AGRICULTURE

Forest Service

Information Collection; Public Attitudes, Beliefs, and Values About National Forest Systems Land Management

AGENCY: Forest Service, USDA.

ACTION: Notice; request for comment.

SUMMARY: In accordance with the Paperwork Reduction Act of 1995, the Forest Service is seeking comments from all interested individuals and organizations on the extension of a currently approved information collection; Public Attitudes, Beliefs, and Values about National Forest Systems Land Management.

DATES: Comments must be received in writing on or before February 12, 2010 to be assured of consideration. Comments received after that date will be considered to the extent practicable.

ADDRESSES: Comments concerning this notice should be addressed to Dr. Daniel W. McCollum, Rocky Mountain Research Station, 2150-A Centre Ave., Suite 350, Fort Collins, CO 80526.

Comments also may be submitted via facsimile to 970-295-5959 or by e-mail to dmccollum@fs.fed.us.

The public may inspect comments received at Rocky Mountain Research Station, 2150-A Centre Ave., Suite 350, Room 347, Fort Collins, CO, during normal business hours. Visitors are encouraged to call ahead to 970-295-5951 to facilitate entry to the building.

FOR FURTHER INFORMATION CONTACT: Dr. Daniel W. McCollum, Rocky Mountain Research Station, 970-295-5962. Individuals who use telecommunication devices for the deaf (TDD) may call the Federal Relay Service (FRS) at 1-800-877-8339, 24 hours a day, every day of the year, including holidays.

SUPPLEMENTARY INFORMATION: Title: Public Attitudes, Beliefs, and Values about National Forest Systems Land Management.

OMB Number: 0596-0205.

Expiration Date of Approval: March 31, 2010.

Type of Request: Renewal.

Abstract: The intent of this collection is to obtain information on public attitudes, beliefs, and values toward public land and public land use and how those values are affected by public land management. In addition, the information collected helps determine the acceptable tradeoffs in developing alternative management plans. Surveys completed by the public and specific stakeholder groups assist natural forest land managers and planners with scientifically credible information. This information is critical to planning and implementing public policy related to National forests in the Southwest Region. Renewal of this authority will allow the USDA Forest Service to monitor changes in public attitudes, beliefs, and values over time.

Legal authority for this collection comes from the following sources: The National Environmental Policy Act of 1969, the National Forest Management Act of 1976, and the NFMA Planning Rule. These authorities call for periodic forest plan revision and planning related to management policies and actions in the Southwest Region. The data collected are analyzed and incorporated into these planning and decision making processes. Social science and economic information provide qualitative and quantitative metrics to assist natural forest land managers in developing alternative processes and in evaluating performance.

Monitoring the public with survey instruments over time provides data to compare and evaluate changes in public attitudes, beliefs, and values related to national forest use and management.

Estimate of Annual Burden: 30 minutes for the Mail or Web-based survey; 8 minutes for the telephone survey to non-respondents to mail and Web-based surveys.

Type of Respondents: General public within the administrative boundaries of the Forest Service Southwest Region, Region 3 (New Mexico, Arizona, and a few counties in Texas and Oklahoma).

Estimated Annual Number of Respondents: 20,200 (up to 20,000 mail or Web-based survey; and 200 for telephone survey).

Estimated Annual Number of Responses per Respondent: 1.

Estimated Total Annual Burden on Respondents: 10,027 burden hours annually.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 4, 2009.
Ann Bartuska,
Deputy Chief, Research and Development.

[FR Doc. E9-29616 Filed 12-11-09; 8:45 am]

BILLING CODE 3410-11-P